DEPARTMENT OF TRANSPORTATION

Federal Motor Carrier Safety Administration

[Docket No. FMCSA-2014-0335]

Parts and Accessories Necessary for Safe Operation; Application for an Exemption From Dealers Choice Truckaway System, Inc.

AGENCY: Federal Motor Carrier Safety Administration (FMCSA), DOT.

ACTION: Notice of application for exemption; request for comments.

SUMMARY: FMCSA requests public comment on an application for exemption from Dealers Choice Truckaway System, Inc. (Truckmovers) to allow the use of plastic blocks to build up the height of the front end of a towed vehicle in driveaway-towaway operations. The Federal Motor Carrier Safety Regulations (FMCSRs) permit the use of “hardwood blocks of good quality” for this purpose but the use of materials other than hardwood blocks is not addressed. Truckmovers believes the use of ultra-high molecular polyethylene plastic blocks will maintain a level of safety that is equivalent to the level of safety achieved without the exemption. Truckmovers is requesting the temporary exemption in advance of petitioning FMCSA to conduct a rulemaking to amend 49 CFR 393.71(k)(4) to allow the use of vehicle support blocks made of any suitable material to support the weight of vehicles when towing multiple vehicles in driveaway-towaway operations.

DATES: Comments must be received on or before November 7, 2014.

ADDRESSES: You may submit comments bearing the Federal Docket Management System (FDMS) Docket ID FMCSA-2014-0335 using any of the following methods:

• Web site: http://www.regulations.gov. Follow the instructions for submitting comments on the Federal electronic docket site.

• Fax: 1-202-493-2251.

• Mail: Docket Management Facility, U.S. Department of Transportation, Room W12-140, 1200 New Jersey Avenue SE., Washington, DC 20590-0001.

• Hand Delivery: Ground Floor, Room W12-140, DOT Building, 1200 New Jersey Avenue SE., Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE., Washington, DC, between 9 a.m. and 5 p.m., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476) or you may visit http://www.regulations.gov.

Public participation: The http://www.regulations.gov Web site is generally available 24 hours each day, 365 days each year. You may find electronic submission and retrieval help and guidelines under the “help” section of the http://www.regulations.gov Web site as well as the DOT's http://docketsinfo.dot.gov Web site. If you would like notification that we received your comments, please include a self addressed, stamped envelope or postcard or print the acknowledgment page that appears after submitting comments online.

FOR FURTHER INFORMATION CONTACT: Mr. Luke W. Loy, Vehicle and Roadside Operations Division, Office of Bus and Truck Standards and Operations, MC-PSV, (202) 366-0676; Federal Motor Carrier Safety Administration, 1200 New Jersey Avenue SE., Washington, DC 20590-0001.

SUPPLEMENTARY INFORMATION:

Background

Section 4007 of the Transportation Equity Act for the 21st Century (TEA- 21) [Pub. L. 105-178, June 9, 1998, 112 Stat. 401] amended 49 U.S.C. 31315 and 31136(e) to provide authority to grant exemptions from the Federal Motor Carrier Safety Regulations (FMCSRs). On August 20, 2004, FMCSA published a final rule (69 FR 51589) implementing section 4007. Under this rule, FMCSA must publish a notice of each exemption request in the Federal Register (49 CFR 381.315(a)). The Agency must provide the public with an opportunity to inspect the information relevant to the application, including any safety analyses that have been conducted. The Agency must also provide an opportunity for public comment on the request.

The Agency reviews the safety analyses and the public comments and determines whether granting the exemption would likely achieve a level of safety equivalent to or greater than the level that would be achieved by the current regulation (49 CFR 381.305). The decision of the Agency must be published in the Federal Register (49 CFR 381.315(b)). If the Agency denies the request, it must state the reason for doing so. If the decision is to grant the exemption, the notice must specify the person or class of persons receiving the exemption and the regulatory provision or provisions from which an exemption is granted. The notice must specify the effective period of the exemption (up to 2 years) and explain the terms and conditions of the exemption. The exemption may be renewed (49 CFR 381.315(c) and 49 CFR 381.300(b)).

Truckmovers Application for Exemption

Truckmovers applied for an exemption from 49 CFR 393.71(k)(4) to allow the use of plastic support blocks in lieu of hardwood blocks to increase the height of a towed vehicle in driveaway-towaway operations. A copy of the application is included in the docket referenced at the beginning of this notice.

In its application, Truckmovers states that without the proposed exemption it will not be able to utilize plastic support blocks because 49 CFR 393.71(k)(4) specifically identifies the use of hardwood blocks to build up the height of the front end of a towed vehicle in driveaway-towaway operations. Truckmovers provided information regarding the development of ultra-high molecular polyethylene plastic blocks with a compression rating of 3,300 psi, which can withstand extreme heat and cold. These plastic blocks are not susceptible to decomposition and erosion like wood blocks, allowing for their re-use. The high compression strength of the plastic does not allow the blocks to be over-tightened when secured with cargo securement devices, while wood can be over-tightened, can crack and can become loose in transit. For the reasons stated above, Truckmovers requests that its operators be permitted to use the ultra-high molecular polyethylene plastic support blocks to increase the height of a towed vehicle in driveaway-towaway operations, instead of utilizing hardwood blocks as specified in the current regulation. Truckmovers believes that the use of ultra-high molecular polyurethane plastic blocks, in lieu of hardwood support blocks, will maintain a level of safety that is equivalent to the level of safety achieved without the exemption.

Request for Comments

In accordance with 49 U.S.C. 31315 and 31136(e), FMCSA requests public comment from all interested persons on Truckmovers application for an exemption from 49 CFR 393.73(k)(4). All comments received before the close of business on the comment closing date indicated at the beginning of this notice will be considered and will be available for examination in the docket at the location listed under the ADDRESSES section of this notice.

Comments received after the comment closing date will be filed in the public docket and will be considered to the extent practicable. In addition to late comments, FMCSA will continue to file relevant information in the public docket that becomes available after the comment closing date. Interested persons should continue to examine the public docket for new material.

Issued on: October 1, 2014.
Larry W. Minor,
Associate Administrator for Policy.

[FR Doc. 2014-24011 Filed 10-7-14; 8:45 am]

BILLING CODE 4910-EX-P